DEPARTMENT OF TRANSPORTATION

Federal Aviation Administration

14 CFR Part 71

[Docket No. FAA-2003-14268; Airspace Docket No. 03-ASO-1]

Establishment of Class E5 Airspace; Tunica, MS

Correction

In rule document 03-12817 beginning on page 28128 in the issue of Friday, May 23, 2003, make the following correction:

On page 28128, in the third column, the subject heading is corrected as set forth above.

[FR Doc. C3-12817 Filed 6-16-03; 8:45 am]

BILLING CODE 1505-01-D